DEPARTMENT OF COMMERCE

National Oceanic and Atmospheric Administration

50 CFR Part 648

[Docket No. 200415-0112; RTID 0648-XX041]

Magnuson-Stevens Act Provisions; Fisheries of the Northeastern United States; Northeast Multispecies Fishery; 2020 Allocation of Northeast Multispecies Annual Catch Entitlements and Modifications to a Regulatory Exemption for Sectors

AGENCY: National Marine Fisheries Service (NMFS), National Oceanic and Atmospheric Administration (NOAA), Commerce.

ACTION: Interim final rule; request for comments.

SUMMARY: This rule makes allocations of annual catch entitlements to groundfish sectors for the 2020 fishing year and also makes changes to a previously approved regulatory exemption for sectors. The action is necessary because sectors must receive allocations in order to operate. This action is intended to ensure sector allocations are based on the best scientific information available and to help achieve optimum yield for the fishery.

DATES: This rule is effective May 1, 2020. Comments must be received on or before May 27, 2020.

ADDRESSES: You may submit comments on this document, identified by NOAA-NMFS-2020-0028, by either of the following methods:

• Electronic Submission: Submit all electronic public comments via the Federal e-Rulemaking Portal. Go to www.regulations.gov/#!docketDetail;D=NOAA-NMFS-2020-0028, click the “Comment Now!” icon, complete the required fields, and enter or attach your comments.

• Mail: Submit written comments to Michael Pentony, Regional Administrator, 55 Great Republic Drive, Gloucester, MA 01930. Mark the outside of the envelope, “Comments on the 2020 Sector Rule.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Copies of each sector's operations plan and contract, as well as the programmatic environmental assessment for sectors operations in fishing years 2015 to 2020, are available from the NMFS Greater Atlantic Regional Fisheries Office (GARFO): Michael Pentony, Regional Administrator, National Marine Fisheries Service, 55 Great Republic Drive, Gloucester, MA 01930. These documents are also accessible via the GARFO website: https://www.fisheries.noaa.gov/species/northeast-multispecies.

FOR FURTHER INFORMATION CONTACT: Kyle Molton, Fishery Management Specialist, (978) 281-9236.

SUPPLEMENTARY INFORMATION:

Background

The Northeast Multispecies Fishery Management Plan (FMP) defines a groundfish sector as a group of persons holding limited access Northeast multispecies permits who have voluntarily entered into a contract and agreed to certain fishing restrictions for a specified period of time. Under the FMP, these sectors are allocated a portion of the allowable catch of each Northeast multispecies stock. Sectors are self-selecting, meaning each sector can choose its members.

The Northeast multispecies (groundfish) sector management system allocates a portion of available groundfish catch by stock to each sector. Each sector's annual allocations are known as annual catch entitlements (ACE) and are based on the collective fishing history of a sector's members. The ACEs are a portion of a stock's annual catch limit (ACL) available to commercial groundfish vessels in sectors. A sector determines how to harvest its ACEs and may decide to limit operations to fewer vessels. Atlantic halibut, windowpane flounder, Atlantic wolffish, and ocean pout are not managed under the sector system, and sectors do not receive allocations of these groundfish species. With the exception of halibut that has a one-fish per vessel trip limit, possession of these stocks is prohibited.

Because sectors elect to receive an allocation under a quota-based system, the FMP grants sector vessels several universal exemptions from the FMP's effort controls. These universal exemptions apply to: Trip limits on allocated stocks; Northeast multispecies days-at-sea (DAS) restrictions; the requirement to use a 6.5-inch (16.5-cm) mesh codend when fishing with selective gear on Georges Bank (GB); portions of the Gulf of Maine (GOM) Cod Protection Closures; and the at-sea monitoring (ASM) coverage requirement for sector vessels fishing exclusively in the Southern New England (SNE) and Inshore GB Broad Stock Areas (BSA) with extra-large mesh gillnets (10-inch [25.4-cm] or greater). The FMP allows sectors to request additional exemptions to increase flexibility and fishing opportunities but prohibits sectors from requesting exemptions from permitting restrictions, gear restrictions designed to minimize habitat impacts, and most reporting requirements.

In addition to the sectors, there are several state-operated permit banks, which receive allocation based on the fishing history of permits that the state holds. The final rule implementing Amendment 17 to the FMP allowed a state-operated permit bank to receive an allocation without needing to comply with sector administrative and procedural requirements (77 FR 16942; March 23, 2012). Instead, permit banks are required to submit a list of permits to us, as specified in the permit bank's Memorandum of Agreement between NMFS and the state. These permits are not active vessels; instead, the allocations associated with the permits may be leased to vessels enrolled in sectors. State-operated permit banks contribute to the total allocation under the sector system.

We approved 16 sectors to operate in fishing years 2019 and 2020 and also approved 19 requested exemptions for sectors (84 FR 17916; April 26, 2019). Because all approved operations plans cover 2 fishing years, approved sectors may continue operations in fishing year 2020. Copies of the operations plans and contracts, and the environmental assessment (EA), are available at: https://www.fisheries.noaa.gov/species/northeast-multispecies and from NMFS (see ADDRESSES). This action makes 2020 allocations to sectors based on the specifications set in Framework Adjustment 57 (83 FR 18985; May 1, 2018) and 58 (84 FR 34799; July 19, 2019) to the FMP. This action also makes several changes to a previously approved regulatory exemption to increase fishing opportunities for Acadian redfish.

Catch Limits for Fishing Year 2020

Previously Established Catch Limits

Framework 57 (83 FR 18985; May 1, 2018) and Framework 58 (84 FR 34799; July 19, 2019) previously set fishing year 2020 catch limits for all groundfish stocks. The 2020 catch limits for most stocks remain the same as, or similar, to 2019 limits. Framework 58 did not, however, specify a 2020 catch limit for Eastern GB cod or Eastern GB haddock. Eastern GB cod and haddock are management units of the GB cod and GB haddock stocks that are jointly managed with Canada, and the shared quota is set annually.

This year, in Framework 59, the Council adopted new or adjusted fishing year 2020 catch limits for 19 of the 20 groundfish stocks based on the 2019 stock assessments, as well as catch limits for Eastern GB cod and Eastern GB haddock. We are working to publish a proposed rule to request comments on the Framework 59 measures. Due to a remand of four stocks back to the Council's Scientific and Statistical Committee, the development and submission of Framework 59 was delayed, and it will not be possible to implement final measures in time for May 1, 2020.

As a result, this rule announces the 2020 catch limits set in Frameworks 57 and 58 that are effective on May 1, 2020, including preliminary sector and common pool allocations based on 2020 rosters submitted by sectors (Table 1). If Framework 59 is approved, the 2020 catch limits announced in this rule for all groundfish stocks, except Atlantic wolffish, will change.

We are highlighting one example to frame the importance of these changes for sectors. In Framework 59, the Council recommended a total ACL of 116 mt for GB yellowtail flounder in fishing year 2020. This is a 13-percent increase from the fishing year 2019 ACL set in Framework 58. However, it is 26-percent decrease from the fishing year 2020 ACL previously set by Framework 58, because the quota set by Framework 58 did not take into account the portion that would be allocated to Canada through shared management process

We are highlighting the differences for this stock because the GB yellowtail flounder allocation in this rule is based on 2020 catch limit previously approved in Framework 58 that is higher than the catch limit that would be implemented under Framework 59. If Framework 59 is approved, the final 2020 ACE for several stocks would be reduced from the initial 2020 ACE that sectors receive. Thus, sectors must be sure not to exceed the catch limits recommended in Framework 59 although at the start of fishing year 2020 they may have sufficient quota to allow fishing above this level. Any catch above Framework 59 quotas would subject sectors to accountability measures applicable to each stock.

Default Catch Limits for Eastern GB Cod and Haddock

This rule also sets default catch limits for Eastern GB cod and Eastern GB haddock, the only stocks that do not already have a catch limit in place for fishing year 2020. The catch limits for these stocks are based on recommendations of the Transboundary Management Guidance Committee (along with GB yellowtail flounder), which is the joint U.S./Canada management body that meets annually to recommend shared quotas for the three transboundary stocks. The catch limits for Eastern GB cod and haddock are set annually and are a portion of the total acceptable biological catch for GB cod and haddock. The 2020 total allowable catch (TAC) for Eastern GB cod and haddock and GB yellowtail will be included in Framework 59. While Framework 58 set a 2020 ACL for GB yellowtail flounder, it did not set 2020 catch limits for Eastern GB cod or Eastern GB haddock, so these TAC's are not in place for the start of the fishing year until Framework 59 is finalized. The groundfish regulations require default catch limits for any stock for which final specifications are not in place by the beginning of the fishing year on May 1. The FMP's default specifications provision sets catch at 35 percent of the previous year's (2019) catch, and the default catch limits are in place from May 1 through July 31, or until the final rule for Framework 59 is implemented if prior to July 31. To comply with these regulations and minimize impacts on the fishery, we are setting these default specifications (Table 2), which will prevent a prohibition on fishing in the Eastern U.S./Canada Area due to a delay in allocations by Framework 59. If Framework 59 is not in place on or before July 31 under the regulations, these default allocations will expire and all goundfishing in the eastern area will be prohibited.

Table 1—Initial 2020 Northeast Multispecies Catch Limits
Stock | Total ACL | Groundfish sub-ACL | Preliminary sector sub-ACL | Preliminary common pool sub-ACL | Recreational sub-ACL | Midwater trawl fishery | Scallop fishery | Small-mesh fisheries | State waters sub- component | Other sub- component
GB Cod ** | 1,741 | 1,568 | 1,514 | 54 |  |  |  |  | 18 | 155
GOM Cod | 666 | 610 | 378 | 11 | 220 |  |  |  | 47 | 9
GB Haddock ** | 55,249 | 53,276 | 52,432 | 844 |  | 811 |  |  | 581 | 581
GOM Haddock | 9,626 | 9,384 | 6,700 | 78 | 2,605 | 95 |  |  | 74 | 74
GB Yellowtail Flounder | 157 | 129 | 125 | 4 |  |  | 25 | 3 | 0 | 0
SNE/MA Yellowtail Flounder | 66 | 31 | 25 | 6 |  |  | 16 |  | 2 | 17
CC/GOM Yellowtail Flounder | 490 | 398 | 377 | 21 |  |  |  |  | 51 | 41
American Plaice | 1,420 | 1,361 | 1,332 | 29 |  |  |  |  | 30 | 30
Witch Flounder | 948 | 854 | 831 | 23 |  |  |  |  | 40 | 55
GB Winter Flounder | 786 | 774 | 742 | 32 |  |  |  |  | 0 | 12
GOM Winter Flounder | 428 | 355 | 337 | 18 |  |  |  |  | 67 | 7
SNE/MA Winter Flounder | 700 | 518 | 444 | 74 |  |  |  |  | 73 | 109
Redfish | 11,357 | 11,118 | 11,060 | 58 |  |  |  |  | 119 | 119
White Hake | 2,794 | 2,735 | 2,714 | 21 |  |  |  |  | 29 | 29
Pollock | 38,204 | 37,400 | 37,152 | 248 |  |  |  |  | 402 | 402
N Windowpane Flounder | 86 | 63 | na | 63 |  |  | 18 |  | 2 | 3
S Windowpane Flounder | 457 | 53 | na | 53 |  |  | 158 |  | 28 | 218
Ocean Pout | 120 | 94 | na | 94 |  |  |  |  | 3 | 23
Atlantic Halibut | 100 | 75 | na | 75 |  |  |  |  | 21 | 4
Atlantic Wolffish * | 84 | 82 | na | 82 |  |  |  |  | 1 | 1
* Catch limits for all stocks except Atlantic wolffish will be replaced when the final rule for Framework 59 becomes effective.
** Eastern GB cod and haddock are management units of the GB cod and GB haddock stocks and make up a portion of the total ACL for each.

Table 2—2020 Default Catch Limits for Eastern GB Cod and Haddock
Stock | 2019 Commercial sub-ACL (mt) | 2020 Default commercial sub-ACL (mt)
Eastern GB Cod | 189 | 66
Eastern GB Haddock | 15,000 | 5,250

Operations Plan Submissions

Annually, we solicit operations plan submissions for consideration for approval; however, sectors already approved to operate in fishing years 2019 and 2020 were not required to submit operations plans for 2020. We received an operations plan from one sector not previously approved to operate in 2020, on behalf of the Georges Bank Cod Hook Sector. However, prior to the development of this rule, the applicant voluntarily withdrew the operations plan from further consideration. As a result, we are not approving any additional sectors to operate in fishing year 2020 beyond those previously approved.

Sector Allocations for Fishing Year 2020

This rule makes 2020 preliminary ACE allocations to all sectors based on their 2020 roster submissions. The preliminary allocations will be based on the ACL for each stock set in Frameworks 57 and 58. Because sectors are operating under 2-year operations plans for fishing years 2019 and 2020, these allocations would allow vessels enrolled in sectors to operate under their existing operations plan, as approved.

Any changes in sector rosters prior to May 1 will be corrected in a subsequent action, if needed; roster changes may result in significant changes in sector allocations. All permits enrolled in a sector, and the vessels associated with those permits, have until April 30, 2020, to withdraw from a sector and fish in the common pool for fishing year 2020.

We calculate the sector's allocation for each stock by summing its members' potential sector contributions (PSC) for a stock and then multiplying that total percentage by the available commercial sub-ACL for that stock. Table 3 shows the total PSC for each sector by stock for fishing year 2020. Tables 4 and 5 show the initial allocations that each sector are being allocated, in pounds and metric tons, respectively, for fishing year 2020. We provide the final allocations, to the nearest pound, to each sector based on their final May 1 rosters. We will use these final allocations, along with later adjustments for updated ACL's resulting from Framework 59, ACE transfers, reductions for overages, or increases for carryover, to monitor sector catch. The common pool sub-ACLs are also included in each of these tables. The fishing year 2020 common pool sub-ACLs initial sub-ACLs are being announced in this action, and are calculated using the PSC of permits not enrolled in sectors. The common pool sub-ACL is managed separately from sectors and does not contribute to available ACE for leasing or harvest by sector vessels.

We do not assign a permit separate PSCs for the Eastern GB cod or Eastern GB haddock; instead, we assign each permit a PSC for the GB cod stock and GB haddock stock. Each sector's GB cod and GB haddock allocations are then divided into an Eastern ACE and a Western ACE, based on each sector's percentage of the GB cod and GB haddock ACLs. For example, if a sector is allocated 4 percent of the GB cod ACL, the sector is allocated 4 percent of the commercial Eastern U.S./Canada Area GB cod total allowable catch (TAC) as its Eastern GB cod. The Eastern GB haddock allocations are determined in the same way. These amounts are then subtracted from the sector's overall GB cod and haddock allocations to determine its Western GB cod and haddock ACEs. A sector may only harvest its Eastern GB cod and haddock ACEs in the Eastern U.S./Canada Area. A sector may also “convert,” or transfer, its Eastern GB cod or haddock allocation into Western GB allocation and fish that converted ACE outside the Eastern GB area.

At the start of fishing year 2020, we may withhold 20 percent of each sector's fishing year 2020 allocation for up to 60 days until we finalize fishing year 2019 catch information. We expect to finalize 2019 catch information for sectors in summer 2020. We will allow sectors to transfer fishing year 2019 ACE for 2 weeks upon our completion of year-end catch accounting to reduce or eliminate any fishing year 2019 overages. If necessary, we will reduce any sector's fishing year 2020 allocation to account for a remaining overage in fishing year 2019. Each year we notify the Council and sector managers of this deadline and announce this decision on our website at: https://www.fisheries.noaa.gov/species/northeast-multispecies.

BILLING CODE 3510-22-P

BILLING CODE 3510-22-C

Exemptions Previously Granted for Fishing Years 2019 and 2020

Previously Granted Exemptions for Fishing Years 2019 and 2020 (1-19)

We have already granted exemptions from the following requirements for fishing years 2019 and 2020, all of which have been requested and granted in previous years: (1) 120-day block out of the fishery required for Day gillnet vessels; (2) 20-day spawning block out of the fishery required for all vessels; (3) limits on the number of gillnets for Day gillnet vessels outside the GOM; (4) prohibition on a vessel hauling another vessel's gillnet gear; (5) limits on the number of gillnets that may be hauled on GB when fishing under a Northeast multispecies/monkfish DAS; (6) limits on the number of hooks that may be fished; (7) DAS Leasing Program length and horsepower restrictions; (8) prohibition on discarding; (9) gear requirements in the Eastern U.S./Canada Management Area; (10) prohibition on a vessel hauling another vessel's hook gear; (11) the requirement to declare an intent to fish in the Eastern U.S./Canada Special Access Program (SAP) and the Closed Area (CA) II Yellowtail Flounder/Haddock SAP prior to leaving the dock; (12) seasonal restrictions for the Eastern U.S./Canada Haddock SAP; (13) seasonal restrictions for the CA II Yellowtail Flounder/Haddock SAP; (14) sampling exemption; (15) 6.5-inch (16.5-cm) minimum mesh size requirement for trawl nets to allow a 5.5-inch (14.0-cm) codend on directed redfish trips; (16) prohibition on combining small-mesh exempted fishery and sector trips in SNE; (17) extra-large mesh requirement to target dogfish on trips excluded from ASM in SNE and Inshore GB; (18) requirement that Handgear A vessels carry a Vessel Monitoring System (VMS) unit when fishing in a single BSA; and (19) limits on the number of gillnets for Day gillnet vessels in the GOM. A detailed description of the previously granted exemptions and supporting rationale can be found in the applicable final rules identified in Table 6 below.

Table 6—Exemptions Previously Granted for Fishing Years 2019 and 2020
Exemptions | Rulemaking | Date of publication | Citation
1-2, 4-9 | Fishing Year 2011 Sector Operations Final Rule | April 25, 2011 | 76 FR 23076
10-11 | Fishing Year 2012 Sector Operations Final Rule | May 2, 2012 | 77 FR 26129
12-14 | Fishing Year 2013 Sector Operations Interim Final Rule | May 2, 2013 | 78 FR 25591
3, 15-16 | Fishing Years 2015-2016 Sector Operations Final Rule | May 1, 2015 | 80 FR 25143
17 | Framework 55 Final Rule | May 2, 2016 | 81 FR 26412
18 | Amendment 18 Final Rule | April 21, 2017 | 82 FR 18706
19 | Fishing Year 2018 Sector Operations Final Rule | May 1, 2018 | 83 FR 18965
Northeast Multispecies Federal Register documents can be found at http://www.greateratlantic.fisheries.noaa.gov/sustainable/species/multispecies/.

New Exemption Requests Not Approved in Fishing Year 2020

Minimum Mesh Size for Gillnets Fished in Georges Bank

For fishing year 2020, sectors requested a new exemption to allow sector vessels to fish gillnets with mesh smaller than the 6.5-inch (16.5-cm) minimum mesh size in the GB BSA. Under current regulations, vessels are prohibited from fishing for groundfish with gillnets with mesh smaller than 6.5 inches (16.5 cm) in the GOM and GB Regulated Mesh Areas. Minimum mesh size restrictions (50 CFR 648.80(a)(3)(i), (a)(4)(i), (b)(2)(i), and (c)(2)(i)) were implemented under previous groundfish actions to reduce overall mortality on groundfish stocks, change the selection pattern of the fishery to target larger fish, improve survival of sublegal fish, and allow sublegal fish more opportunity to spawn before entering the fishery.

Sectors requested the exemption to allow vessels to fish gillnets with mesh as small as 6.0 inches (15.2 cm) in the GB BSA. Additionally, vessels would remain limited to fishing 50 nets under the current mesh size, and could only fish those nets between January 1 and April 30 each year. The intent of the request is to allow vessels fishing with gillnets to target GB haddock, a healthy groundfish stock. We previously approved similar exemptions, which allowed vessels to use 6.0-inch (15.2-cm) mesh gillnets to target haddock in the Gulf of Maine; however, these exemptions were disapproved in 2013 (78 FR 25591; May 2, 2013) due to concerns about GOM haddock stock status, which was poor at the time, and potential impacts on protected species. Despite improved stock status of GOM haddock, we have not re-approved an exemption in the GOM because of concerns about bycatch of GOM cod, which is in poor condition.

We have several concerns regarding the exemption as requested, including concerns for impacts on GB cod, other groundfish stocks, and the potential for impacts on protected resources. While GB haddock is a healthy stock and we are supportive of efforts to increase utilization of GB haddock quota, we are concerned that allowing the use of gillnets smaller than the 6.5-inch (16.5-cm) minimum mesh size may have an impact on GB cod, a stock that is overfished. Although some studies have shown increased selectivity of haddock with smaller mesh gillnets, selectivity curves suggest that smaller mesh gillnets will catch more smaller size cod and other co-occurring species than larger mesh nets. There are studies underway to assess the selectivity of different gillnet mesh sizes, specifically investigating the potential for use in the haddock fishery on GB. However, these studies are not yet completed, and we cannot use them yet to support an exemption. Further, we have concerns about potential impacts on protected species, particularly critically endangered North Atlantic right whales. We are concerned that changes in area fished, gear density, and seasonality of fishing could result in increased interaction risk for this species, as the requested exemption overlaps times and areas known to have a presence of right whales. We are denying the request for approval of this new exemption for fishing year 2020, given the unclear relationship between any potential increase in GB haddock harvest and potential negative impacts on GB cod, combined with the potential for increased interactions with protected resources. We may reevaluate this exemption request in a future action, should further information become available.

Previously Approved Exemptions We Are Modifying

6.5-inch (16.5-cm) Minimum Mesh Size Requirement for Trawl Nets To Allow a 5.5-inch (14.0-cm) Codend on Directed Redfish Trips

Since fishing year 2012, we have approved exemptions that allow sector vessels to target Acadian redfish, a healthy stock with a sub-legal size mesh codend, ranging from 4.5 inches (11.4 cm) to 6 inches (15.2 cm), with different versions requiring different levels of monitoring, different catch thresholds, and different areas where vessels are allowed to use the exemption (Table 7). In 2015, we approved the current version of the exemption (80 FR 25143; May 1, 2015), which was re-approved for fishing years 2019 and 2020. Under the exemption, vessels may fish with a 5.5-inch (14.0-cm) codend, are subject to standard at-sea monitoring coverage, and are required to fish in the Redfish Exemption Area (Figure 1). Sectors are further required to meet a 50-percent redfish catch threshold (50 percent of all groundfish catch on the small-mesh portion of trips must be redfish) and, on observed trips, discards of groundfish may not exceed 5 percent of groundfish catch on the small-mesh portion of the trip.

Table 7—Previously Approved Versions of the Redfish Exemption
Exemption | Rulemaking | Date | Citation
6.0 inch (15.2 cm) with 100% NMFS-funded coverage | Fishing Year 2012 Sector Operations Final Rule | May 2, 2012 | 77 FR 26129
4.5 inch (11.4 cm) with 100% NMFS-funded coverage | Fishing Year 2012 Redfish Exemption Final Rule | March 5, 2013 | 78 FR 14226
4.5 inch (11.4 cm) with 100% Industry-funded coverage | Fishing Year 2013 Sector Operations Interim Final Rule | May 2, 2013 | 78 FR 25591
6.0 inch (15.2 cm) with standard observer coverage | Fishing Year 2014 Sector Operations Final Rule | April 28, 2014 | 79 FR 23278
5.5 inch (14.0 cm) with standard observer coverage | Fishing Year 2015-2016 Sector Operations Final Rule | May 1, 2015 | 80 FR 25143
Northeast Multispecies Federal Register documents can be found at https://www.fisheries.noaa.gov/species/northeast-multispecies.

In fishing years 2018 and 2019, several sectors failed to meet the 50-percent redfish landings threshold for at least one month; no sectors exceeded the 5-percent groundfish discard threshold. We notified each sector by letter that they were out of compliance, one in April 2019 and the others in February 2020. All of the sectors took steps to improve compliance with the thresholds and were able to restore compliance with the 50-percent threshold. Given the performance of this exemption, we conducted a review of catch data under the exemption since it was approved in 2015. In that review, which included data from nearly 1,500 vessel trip reports and haul-level catch from observed trips, we found a number of areas within the current Redfish Exemption Area where vessels regularly had high levels of non-redfish catch (white hake, GB and GOM haddock, pollock, and GB cod), as well as areas with consistently high levels of redfish catch. In statistical areas 465, 511, and 512, observed hauls with more than 50 percent redfish were extremely rare, instead white hake and haddock dominated groundfish catch. Similarly, in block 131, which is already closed to redfish exemption fishing in February and March due to concerns about GOM cod, observed hauls rarely approached 50 percent redfish; more often haddock, pollock, and white hake made up the majority of catch. In statistical area 464, majority-redfish hauls were occasionally observed, but pollock and sometimes white hake dominated the catch in many observations. In statistical area 561, few exemption hauls were observed, but nearly all were well below 50 percent redfish with other species dominating. In statistical areas 521 and 522, redfish hauls occasionally achieved 50 percent or better redfish catch. However, haddock dominated the catch on many hauls, and there were many hauls observed where cod actually approached or even exceeded 50 percent of the catch; no other areas showed this level of consistently high cod catch under the exemption. In most of statistical area 515, and in a portion of southeastern statistical area 513, redfish were regularly the largest portion of the catch on observed redfish hauls; in many, if not most, hauls redfish exceeded 75 percent of total groundfish catch. While other species, especially pollock and haddock, were occasionally caught in abundance in these areas, redfish dominated in most cases. As a result, we are modifying the Redfish Exemption Area to reflect these findings, and better balance opportunities for sector vessels to efficiently harvest redfish with our concerns for targeting of non-redfish stocks and unintended impacts on other groundfish stocks under the exemption.

The revised Redfish Exemption Area falls entirely in the GOM Regulated Mesh Area, and includes all waters of the U.S. Exclusive Economic Zone north of 42 degrees 20 minutes North latitude, east of 69 degrees 30 minutes West longitude, south of 43 degrees 20 minutes North latitude, and West of 67 degrees 40 minutes West longitude (Figure 2). This area overlaps most of statistical area 515, and also includes a smaller portion of statistical area 513, where our review showed consistently clean redfish fishing, and the vast majority of redfish harvest. Vessels are prohibited from using the exemption in any overlapping closures, including year round closed areas and habitat areas that prohibit the use of mobile gear.

We expect the revised Redfish Exemption Area to continue to allow vessels to efficiently harvest redfish. The revised area includes areas where the majority of redfish are harvested, proportional catch of redfish is high, and bycatch of other groundfish stocks is generally low. We also expect the revised area to reduce opportunities for vessels to target non-redfish groundfish stocks with sub-legal mesh, as it excludes areas where redfish are rarely encountered as a significant proportion of catch by vessels using the exemption. In particular, several areas we propose to remove from the footprint of the exemption area showed consistently high catches of white hake and GB cod, both of which are of concern given their stock status; pollock and haddock catch were also very high in some areas. In portions of the Redfish Exemption Area that overlap the GB BSA, we found significant haddock and cod catch; as a result, we are concerned that including any portion of GB in the Redfish Exemption Area may reduce the incentive for vessels to fish under the universal sector exemption allowing vessels to fish with a 6.0-inch (15.2-cm) mesh codend when using a haddock separator or Ruhle trawl. This exemption is intended to increase sector vessels ability to target haddock and to minimize unnecessary bycatch of GB cod and other stocks. While our review of catch data could not determine the intent of vessels fishing in the area, it appeared that vessels were less likely to use selective gear when given the less restrictive option of fishing under the redfish exemption. Because there is currently an overlap where vessels may choose between a 5.5-inch (14.0-cm) codend on a redfish trip or a 6.0-inch (15.2-cm) codend with selective gear, the incentive to use the selective gear is minimized, inconsistent with the intent of the universal exemption. The new Redfish Exemption Area should better balance opportunities for sector vessels to efficiently harvest redfish with concerns for impacts on non-redfish stocks, and help reduce the risk of sectors falling out of compliance with the redfish catch and groundfish discard thresholds intended to ensure the viability of the exemption.

We are also changing the gear stowage requirements for vessels on redfish exemption trips. Currently, vessels must stow any sub-legal codend below deck until the vessel begins the redfish portion of its exemption trip, that is, it has transited to the Redfish Exemption Area and notified NMFS, via VMS, that it is is switching to a codend smaller than the regulations would otherwise allow and has reported all catch on board. We are eliminating the requirement to stow the sub-legal codend below deck prior to use, and instead will now require the sub-legal codend to be stowed not available for use consistent with the methods outlined in § 648.2. We will allow for on-reel stowage consistent with requirements for transiting the GOM Cod Protection Closures and Seasonal Closure Areas. This change will allow vessels on a redfish trip to store a net with a sub-legal codend attached on a net reel when transiting to the Redfish Exemption Area so long as the there is no containment rope, codend tripping device, or similar mechanism attached, and the surface of the net is covered and securely bound. Similarly, this change will allow vessels to store sub-legal codends on-deck, so long as they are fan folded, bound around the circumference, and fastened to the deck or rail of the vessel. These changes are intended to better reflect the operational realities of vessels that fish using the redfish exemption. In many cases, storing a codend below-deck may not be practical. We are also concerned that the additional stowage requirement for the redfish exemption is unnecessary and may create confusion for members of the industry, leading to inadvertent non-compliance. While we are removing the below-deck codend storage requirements under the exemption, this action does not remove the regulation requiring gear to be stowed and not available for immediate use when transiting closed areas consistent with § 648.81(e). As a result, vessels transiting the Cashes Ledge Closed Area, the Western GOM Closure Area, and the GOM Cod Spawning Protection Closure (Whaleback) are still be required to remove their codend from the net and store it below deck if using on-reel stowage for their nets.

All other provisions of the redfish exemption remain in place, with the exception of the changes to the Redfish Exemption Area and gear stowage requirements. We are taking public comment on these changes to the redfish exemption in order to assist us in reviewing the impacts and benefits of these changes.

BILLING CODE 3510-22-P

BILLING CODE 3510-22-C

Classification

The NMFS Assistant Administrator (AA) has determined that this interim final rule is consistent with the Northeast Multispecies FMP, other provisions of the Magnuson-Stevens Act, and other applicable law.

The AA finds that prior notice and the opportunity for public comment, pursuant to authority set forth at 5 U.S.C. 553(b)(B), would be impracticable and contrary to the public interest. Similarly, the need to implement these measures in a timely manner constitutes good cause under authority contained in 5 U.S.C. 553(d)(3), to make the rule effective May 1, 2020, so that this interim final rule may be in place by the start of the 2020 fishing year. Unforeseen delays and the need to address unanticipated issues prevented NMFS from publishing a proposed rule in a timeframe that would have enabled a final rule to be published prior to May 1, 2020. Avoiding a delay in effectiveness beyond the May 1, 2020, start of the fishing year prevents vessel owners from incurring significant adverse economic impacts. A delay in implementing this rule would prevent sector vessels from fishing for groundfish until this rulemaking is finalized and sector allocations are made. This would cause major disruption and would effectively shut down the entire groundfish fishery during the delay. Being prohibited from fishing for up to 30 days would have a significant adverse economic impact on these vessels because vessels would be prevented from fishing in a month when sector vessels historically landed approximately 10 percent of several allocations, including Eastern GB cod and GB winter flounder. Any delay would have a significant adverse economic impact on these vessels that are already experiencing negative economic impacts and hardships due to the coronavirus pandemic. A delay would result in substantial lost fishing opportunities during a peak season for groundfish vessels. Additionally, any delay would diminish the intent of this rule to provide flexibility in vessel operations and maximum opportunity to catch the fishery quota. For the reasons outlined above, good cause exists to waive the otherwise applicable requirement to delay implementation of this rule for a period of 30 days.

Additionally, sector exemptions grant relief from restrictions, which provides operational flexibility and efficiency, and helps to avoid short-term adverse economic impacts on NE multispecies sector vessels. When operating under, sector vessels are exempted from common pool trip limits, DAS limits, and seasonal closed areas. These exemptions provide vessels with flexibility in choosing when to fish, how long to fish, what species to target, and how much catch they may land. They also relieve some gear restrictions, reporting and monitoring requirements, and provide access to additional fishing grounds through the authorization of exemptions from Northeast multispecies regulations. This flexibility increases efficiency and reduces costs for sector vessels.

This action is exempt from the procedures of Executive Order (E.O.) 12866.

This rule does not contain policies with Federalism or “takings” implications as those terms are defined in E.O. 13132 and E.O. 12630, respectively.

This interim final rule is exempt from the procedures of the Regulatory Flexibility Act because the rule is issued without opportunity for prior notice and opportunity for public comment.

Authority: 16 U.S.C. 1801 et seq.

Dated: April 15, 2020.
Samuel D. Rauch III,
Deputy Assistant Administrator for Regulatory Programs, National Marine Fisheries Service.

[FR Doc. 2020-08399 Filed 4-24-20; 8:45 am]

BILLING CODE 3510-22-P